DEPARTMENT OF HEALTH AND HUMAN SERVICES

Indian Health Service

Notice of Proposed Purchased/Referred Care Delivery Area Redesignation for the Mashantucket Pequot Tribal Nation in the State of Connecticut

AGENCY: Indian Health Service, Department of Health and Human Services.

ACTION: Notice.

SUMMARY: This Notice advises the public that the Indian Health Service (IHS) proposes to expand the geographic boundaries of the Purchased/Referred Care Delivery Area (PRCDA) for the Mashantucket Pequot Tribal Nation to include the counties of Fairfield, Hartford, Litchfield, Middlesex, New Haven, Tolland, and Windham in the State of Connecticut. The current PRCDA for the Mashantucket Pequot Tribal Nation includes the Connecticut county of New London. Mashantucket Pequot Tribal Nation members residing outside of the PRCDA are eligible for direct care services, however, they are not eligible for Purchased/Referred Care (PRC) services. The sole purpose of this expansion would be to authorize additional Mashantucket Pequot Tribal Nation members and IHS beneficiaries to receive PRC services.

DATES: Comments must be submitted by February 20, 2024.

ADDRESSES: Because of staff and resource limitations, we cannot accept comments by facsimile (FAX) transmission. You may submit comments in one of four ways (please choose only one of the ways listed):

1. Electronically. You may submit electronic comments on this regulation to https://www.regulations.gov. Follow the “Submit a Comment” instructions.

2. By regular mail. You may mail written comments to the following address ONLY: Carl Mitchell, Director, Division of Regulatory and Policy Coordination, Indian Health Service, 5600 Fishers Lane, Mail Stop: 09E70, Rockville, Maryland 20857.

Please allow sufficient time for mailed comments to be received before the close of the comment period.

3. By express or overnight mail. You may send written comments to the above address.

4. By hand or courier. If you prefer, you may deliver (by hand or courier) your written comments before the close of the comment period to the address above. If you intend to deliver your comments to the Rockville address, please call telephone number (301) 443-1116 in advance to schedule your arrival with a staff member.

FOR FURTHER INFORMATION CONTACT: CAPT John Rael, Director, Office of Resource Access and Partnerships, Indian Health Service, 5600 Fishers Lane, Mail Stop: 10E85C, Rockville, Maryland 20857. Telephone (301) 443-0969 (This is not a toll free number).

SUPPLEMENTARY INFORMATION:

Inspection of Public Comments: All comments received before the close of the comment period are available for viewing by the public, including any personally identifiable or confidential business information that is included in a comment.

Background: The IHS provides services under regulation in effect as of September 15, 1987, and republished at 42 CFR part 136, subparts A-C. Subpart C defines a Contract Health Service Delivery Area (CHSDA), now referred to as PRCDA, as the geographic area within which PRC will be made available by the IHS to members of an identified Indian community who reside in the PRCDA. Residence within a PRCDA by a person who is within the scope of the Indian health program, as set forth in 42 CFR 136.12, creates no legal entitlement to PRC but only potential eligibility for services. Services needed, but not available at an IHS/Tribal facility, are provided under the PRC program depending on the availability of funds, the relative medical priority of the services to be provided, and the actual availability and accessibility of alternate resources in accordance with the regulations.

The regulations at 42 CFR part 136, subpart C provide that, unless otherwise designated, a PRCDA shall consist of a county which includes all or part of a reservation and any county or counties which have a common boundary with the reservation. 42 CFR 136.22(a)(6). The regulations also provide that after consultation with the Tribal governing body or bodies on those reservations included within the PRCDA, the Secretary may, from time to time, redesignate areas within the United States for inclusion in or exclusion from a PRCDA. 42 CFR 136.22(b). The regulations require that certain criteria must be considered before any redesignation is made. The criteria are as follows:

(1) The number of Indians residing in the area proposed to be so included or excluded;

(2) Whether the Tribal governing body has determined that Indians residing in the area near the reservation are socially and economically affiliated with the Tribe;

(3) The geographic proximity to the reservation of the area whose inclusion or exclusion is being considered; and

(4) The level of funding which would be available for the provision of PRC. Additionally, the regulations require that any redesignation of a PRCDA must be made in accordance with the procedures of the Administrative Procedure Act (5 U.S.C. 553). 42 CFR 136.22(c). In compliance with this requirement, the IHS is publishing this Notice and requesting public comments.

The Mashantucket Pequot Tribal Nation's (MPTN, or Tribe) reservation is located in New London County, Connecticut. The PRC Program is operated as a Tribal Health Program by the MPTN in Mashantucket, CT. The MPTN estimates that approximately 32 Tribal members and MPTN employees who are members of other federally recognized Tribes reside in the proposed expansion counties, and would become PRC eligible through this proposal. The MPTN states that the Tribal members and American Indian and Alaska Native (AI/AN) employees who reside in the expanded counties are socially and economically affiliated with the Tribe, including through employment and the utilization of direct health care services. The MPTN would like to recognize these persons as eligible for PRC. Through communication with MPTN's representatives, the IHS also understands that MPTN's members live in all of the counties requested. Accordingly, the IHS proposes to expand the PRCDA of the Mashantucket Pequot Tribal Nation to include the Connecticut counties of Fairfield, Hartford, Litchfield, Middlesex, New Haven, Tolland, and Windham.

If the Mashantucket Pequot Tribal Nation's PRCDA expansion is finalized as proposed, the Tribe's PRCDA would overlap completely with the PRCDA of the Mohegan Tribe of Connecticut. The Mohegan Tribe of Connecticut has previously expressed support of any future request made by a federally recognized Tribe to establish the entire state of Connecticut as a PRCDA, and has not expressed any objection to the Mashantucket Pequot Tribal Nation's proposed PRCDA expansion.

Under 42 CFR 136.23, those otherwise eligible Indians who do not reside on a reservation, but reside within a PRCDA, must be either members of the Tribe or other IHS beneficiaries who maintain close economic and social ties with the Tribe. In this case, applying the aforementioned PRCDA redesignation criteria required by operative regulations codified at 42 CFR part 136, subpart C, the following findings are made:

1. By expanding the PRCDA to include Fairfield, Hartford, Litchfield, Middlesex, New Haven, Tolland, and Windham Counties, the Mashantucket Pequot Tribal Nation's eligible population will be increase by an estimated 32 Tribal members and AI/AN employees.

2. The IHS finds that the Tribal members and AI/AN employees within the expanded PRCDA are socially and economically affiliated with the Mashantucket Pequot Tribal Nation based on a tribal resolution in which the MPTN Tribal Council identified its intent to expand the PRCDA to include all of Connecticut, and stated that the Native Americans residing in such areas are socially and economically affiliated with MPTN.

3. The expanded PRCDA counties form a contiguous area with the existing PRCDA, and within one of the smallest states. In addition to their AI/AN employees, MPTN's members reside in each of the counties proposed for inclusion. For these reasons, the IHS has determined the additional counties proposed for inclusion herein to be geographically proximate, meaning “on or near,” to the existing PRCDA.

4. The MPTN has indicated that its PRC program can continue providing the same level of care to the PRC eligible population if the PRCDA is expanded as proposed, without requiring additional funding or reduction of the current medical priority level.

This Notice does not contain reporting or recordkeeping requirements subject to prior approval by the Office of Management and Budget under the Paperwork Reduction Act of 1980.

Roselyn Tso,
Director, Indian Health Service.

[FR Doc. 2024-01017 Filed 1-18-24; 8:45 am]

BILLING CODE 4166-14-P